DEPARTMENT OF ENERGY

Federal Energy Regulatory Commission

[Project No. 2275-000]

Salida Hydroelectric Project; Notice of Existing Licensee's Notice of Intent To Not File a Subsequent License Application, and Soliciting Notices of Intent To File a License Application and Pre-Application Documents

At least five years before the expiration of a license for a minor water power project not subject to sections 14 and 15 of the Federal Power Act (i.e., a project having an installed capacity of 1.5 megawatts or less), the licensee must file with the Commission a letter that contains an unequivocal statement of the licensee's intent to file or not to file an application for a new license.¹

¹ 18 CFR 16.19(b) (2021).

If such a licensee informs the Commission that it does not intend to file an application for a subsequent license, nonpower license, or exemption for the project, the licensee may not file an application for a subsequent license, nonpower license, or exemption for the project, either individually or in conjunction with an entity or entities that are not currently licensees of the project.²

² 18 CFR 16.24(b)(1).

On March 15, 2022, Public Service Company of Colorado (PSCo), the existing licensee for the Salida Hydroelectric Project No. 2275, filed notice of its intent to not file an application for a subsequent license. Therefore, pursuant to section 16.24(b)(1) of the Commission's regulations, PSCo may not file an application for a subsequent license for the project, either individually or in conjunction with an entity or entities that are not currently licensees of the project.

The 1.31-megawatt Salida Hydroelectric Project is located on the South Arkansas River and Fooses Creek, approximately 6 miles west of the town of Poncha Springs in Chaffee County, Colorado. The project occupies 33 acres of federal land managed by the U.S. Forest Service. The existing license for the project expires on April 30, 2027.

The Salida Hydroelectric Project consists of two developments, Salida No. 1 and Salida No. 2. The principal project works of the Salida No. 1 development include: (1) An 11.8-foot-high, 50-foot-long reinforced gravity dam on the South Fork Arkansas River, impounding the 3-acre-foot Garfield reservoir; (2) a 4,806-foot-long gravity steel pipeline from Garfield dam to Fooses reservoir; (3) a 31-foot-high, 218-foot-long earth and rock dam on Fooses Creek, impounding the 13-acre-foot Fooses reservoir; and (4) an 8,080-foot-long penstock extending from Fooses dam to a powerhouse containing one 750-kilowatt turbine. The principal project works of the Salida No. 2 development include: (1) A 15-foot-high, 250-foot-long earthfill dame on the South Arkansas River, impounding a 10-acre-foot forebay; and (2) an 11,668-foot-long penstock extending from the forebay to a powerhouse containing one 560-killowatt turbine. The Salida No. 1 development has been out of service since August 2009.

Any party interested in filing a license application (i.e., potential applicant) for the Salida Hydroelectric Project No. 2275 must file a Notice of Intent (NOI) ³ and pre- application document (PAD).⁴ Additionally, while the integrated licensing process (ILP) is the default process for preparing an application for a subsequent license, a potential applicant may request to use alternative licensing procedures when it files its NOI.⁵

³ 18 CFR 5.5.

⁴ 18 CFR 5.6.

⁵ 18 CFR 5.3(b).

The deadline for potential applicants, other than the existing licensee, to file NOIs, PADs, and requests to use an alternative licensing process is 120 days from the issuance date of this notice.

Applications for a subsequent license from potential applicants, other than the existing licensee, must be filed with the Commission at least 24 months prior to the expiration of the existing license.⁶ Because the existing license expires on April 30, 2027, applications for license for this project must be filed by April 30, 2025.

⁶ 18 CFR 16.20.

Questions concerning this notice should be directed to Tim Konnert (202) 502-6359 or timothy.konnert@ferc.gov.

Dated: April 29, 2022.
Kimberly D. Bose,
Secretary.

[FR Doc. 2022-09634 Filed 5-4-22; 8:45 am]

BILLING CODE 6717-01-P